DEPARTMENT OF LABOR

Employment and Training Administration

[TA-W-62,260]

Flexsteel Industries, Inc., Dubuque, IA; Notice of Revised Determination on Reconsideration

By application dated January 12, 2008, the United Steel Workers, District 11, Local 1861 (the Union) requested administrative reconsideration of the Department's negative determination regarding eligibility for workers and former workers of Flexsteel Industries, Inc., Dubuque, Iowa (subject firm) to apply for Trade Adjustment Assistance (TAA) and Alternative Trade Adjustment Assistance (ATAA).

Workers of the subject firm were certified eligible to apply for trade adjustment assistance under petition number TA-W-57,906, which expired on October 7, 2007. The initial investigation resulted in a negative determination signed on December 14, 2007 was based on the finding that the subject company did not separate or threaten to separate a significant number of workers. The denial notice was published in the Federal Register on December 31, 2007 (72 FR 74344).

To support the request for reconsideration, the petitioner supplied additional information regarding employment at the subject firm.

The review of the new information and findings of the initial investigation revealed that the subject firm separated a significant number of workers during the relevant period. The workers produce residential, commercial and recreational seating. The investigation also revealed that the company increased its imports of articles like or directly competitive with residential, commercial and recreational seating from 2005 to 2006 and from January through September of 2007 when compared with the same period in 2006. Furthermore, sales and production declined at the subject firm during the relevant period.

In accordance with Section 246 of the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that increases of imports of residential, commercial and recreational seating, produced by Flexsteel Industries, Inc., Dubuque, Iowa, contributed importantly to the total or partial separation of workers and to the decline in sales or production at that firm or subdivision. In accordance with the provisions of the Act, I make the following certification:

All workers of Flexsteel Industries, Inc., Dubuque, Iowa, who became totally or partially separated from employment on or after October 8, 2007, through two years from the date of this certification, are eligible to apply for adjustment assistance under Section 223 of the Trade Act of 1974, and are eligible to apply for alternative trade adjustment assistance under Section 246 of the Trade Act of 1974.

Signed at Washington, DC, this 11th day of February, 2008
Elliott S. Kushner,
Certifying Officer, Division of Trade Adjustment Assistance.

[FR Doc. E8-3218 Filed 2-21-08; 8:45 am]

BILLING CODE 4510-FN-P